DEPARTMENT OF COMMERCE

International Trade Administration

[C-560-824]

Certain Coated Paper from Indonesia: Postponement of Preliminary Determination in the Countervailing Duty Investigation

AGENCY: Import Administration, International Trade Administration, Department of Commerce.

FOR FURTHER INFORMATION CONTACT: Myrna Lobo or Justin Neuman, AD/CVD Operations, Office 6, Import Administration, International Trade Administration, U.S. Department of Commerce, 14th Street and Constitution Avenue, NW, Washington, DC 20230; telephone: (202) 482-2371 and (202) 482-0486, respectively.

SUPPLEMENTARY INFORMATION:

Background

On October 13, 2009, the Department of Commerce (the Department) initiated the countervailing duty investigation of certain coated paper from Indonesia. See Certain Coated Paper from Indonesia: Initiation of Countervailing Duty Investigation, 74 FR 53707 (October 20, 2009). Currently, the preliminary determination is due no later than December 17, 2009.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, the petitioners, Appleton Coated LLC, NewPage Corporation, S.D. Warren Company d/b/a Sappi Fine Paper North America, and the United Steel, Paper and Forestry, Rubber, Manufacturing, Energy, Allied Industrial and Service Workers International Union, made a timely request on November 19, 2009, requesting a postponement of the preliminary countervailing duty determination to 130 days from the initiation date. See 19 CFR 351.205(e) and the petitioners' November 19, 2009, letter requesting postponement of the preliminary determination.

Therefore, pursuant to the discretion afforded the Department under 703(c)(1)(A) of the Act and because the Department does not find any compelling reason to deny the request, we are extending the due date for the preliminary determination to no later than 130 days after the date on which this investigation was initiated (i.e., to February 20, 2010). However, February 20, 2010 falls on a Saturday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of the preliminary determination is now February 22, 2010, the first business day after the 130th day from initiation.

This notice is issued and published pursuant to section 703(c)(2) of the Act and 19 CFR 351.205(f)(l).

Dated: November 25, 2009.
Ronald K. Lorentzen,
Deputy Assistant Secretary for Import Administration.

[FR Doc. E9-28882 Filed 12-2-09; 8:45 am]

BILLING CODE 3510-DS-S